DEPARTMENT OF TRANSPORTATION

Surface Transportation Board

[STB Finance Docket No. 34496]

Progressive Rail, Incorporated—Lease and Operation Exemption—Soo Line Railroad Company

Progressive Rail, Incorporated (PGR), a Class III rail carrier, has filed a verified notice of exemption under 49 CFR 1150.41 et seq. to lease, from Soo Line Railroad Company (Soo Line), and operate 33.44 miles of rail line consisting of: (1) The Lakeville Line between MN&S milepost 35.25 at the I-35 bridge at or near Lakeville and milepost UP 309.69 at or near Northfield, including the Northfield Yard between UP milepost 313.15 (north yard point of switch) and UP milepost 312.13 (south yard point of switch), and a segment of the Cannon Falls Line between milepost 0.0 (equivalent UP milepost 313.67) and milepost 0.1, a distance of 21.74 miles in Dakota County, MN; and (2) the Eagandale Line between UP milepost 332.05 at or near Rosemount and milepost 160.7 at or near Eagan, including the Rosemount siding, team track, house track and wye track between UP milepost 333.15 and UP milepost 333.80, a distance of 11.7 miles in Dakota County, MN.¹

¹ PGR indicates that it has reached an agreement with Soo Line on a lease for PGR's operation of the lines.

PGR certifies that its projected revenues as a result of this transaction will not exceed those that would qualify it as a Class III rail carrier and states that such revenues will not exceed $5 million annually. The transaction was scheduled to be consummated on or about May 3, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34496, must be filed with the Surface Transportation Board, 1925 K Street, NW., Washington, DC 20423-0001. In addition, a copy of each pleading must be served on Thomas F. McFarland, P.C., 208 South LaSalle St., Suite 1890, Chicago, IL 60604-1112.

Board decisions and notices are available on our Web site at www.stb.dot.gov.

Decided: May 12, 2004.
By the Board, David M. Konschnik, Director, Office of Proceedings.
Vernon A. Williams,
Secretary.

[FR Doc. 04-11211 Filed 5-18-04; 8:45 am]

BILLING CODE 4915-01-P